DEPARTMENT OF HEALTH AND HUMAN SERVICES

National Institutes of Health

Prospective Grant of Exclusive License: “Spatially and Temporal Control of Gene Expression Protein Promoter in Combination with Local Heat”

AGENCY: National Institutes of Health, Public Health Service, DHHS.

ACTION: Notice.

SUMMARY: This is notice, in accordance with 35 U.S.C. 209(c)(1) and 37 CFR 404.7(a)(1)(i), that the National Institutes of Health, Department of Health and Human Services, is contemplating the grant of an exclusive license to practice the inventions embodied in International Patent Application No. PCT/US97/15270, entitled “Spatially and Temporal Control of Gene Expression Protein Promoter in Combination with Local Heat,” to Celsion Corporation, a US company with headquarters in Maryland.

The prospective exclusive license territory may be worldwide and the field of use may be limited to gene-based therapeutics for the treatment of cancer.

DATES: Only written comments and/or license applications which are received by the National Institutes of Health on or before April 7, 2003 will be considered.

ADDRESSES: Requests for copies of the patent, inquiries, comments and other materials relating to the contemplated exclusive license should be directed to: Matthew B. Kiser, Technology Licensing Specialist, Office of Technology Transfer, National Institutes of Health, 6011 Executive Boulevard, Suite 325, Rockville, MD 20852-3804. Telephone: (301) 435-5236; Facsimile (301) 402-0220; E-mail kiserm@od.nih.gov.

SUPPLEMENTARY INFORMATION: International Patent Application No. PCT/US97/15270 relates to the spatial and temporal control of exogenous gene expression in genetically engineered cells and organisms. In particular, it discloses the use of heat inducible promoters, such as the promoter of heat shock genes to control the expression of exogenous genes. It further relates to the use of focused ultrasound to heat cells that contain therapeutic genes under the control of heat shock promoters, thereby inducing the expression of therapeutic genes.

The prospective exclusive license will be royalty-bearing and will comply with the terms and conditions of 35 U.S.C. 209 and 37 CFR 404.7. The prospective exclusive license may be granted unless within sixty (60) days from the date of this published notice, the NIH receives written evidence and argument that establish that the grant of the license would not be consistent with the requirements of 35 U.S.C. 209 and 37 CFR 404.7.

Applications for a license in the field of use filed in response to this notice will be treated as objections to the grant of the contemplated exclusive license. Comments and objections submitted to this notice will not be made available for public inspection and, to the extent permitted by law, will not be released under the Freedom of Information Act, 5 U.S.C. 552.

Dated: January 28, 2003.
Jack Spiegel,
Director, Division of Technology Development and Transfer, Office of Technology Transfer.

[FR Doc. 03-2624 Filed 2-4-03; 8:45 am]

BILLING CODE 4140-01-P